DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The Health Education Assistance Loan (HEAL) Program: Refinancing Loan Application/Promissory Note (OMB No. 0915-0227)—Revision—The HEAL Program allows borrowers who graduated or separated from school to refinance all of their HEAL loans into one new HEAL loan, often at better rates and terms than their original HEAL loans. The HEAL program originally provided new federally-insured loans to students in schools of allopathic medicine, osteopathic medicine, dentistry, veterinary medicine, optometry, podiatric medicine, pharmacy, public health, graduate students in health administration or clinical psychology through September 30, 1998. Eligible lenders, such as banks, savings and loan associations, credit unions, pension funds, insurance companies, State agencies, and HEAL schools are insured by the Federal Government against loss due to the borrower's death, disability, bankruptcy, and default. The basic purpose of the program was to assure the availability of funds for loans to eligible students who needed to borrow money to pay for their educational costs.

The HEAL refinancing loan application/promissory note is being used by lenders to refinance borrower's original HEAL loans into one new refinanced loan. Due to the success of this form and desire to reduce application processing time, many lenders have automated this form by and taking pertinent application information over the telephone and sending the completed form to the borrower for their review and signature.

The estimate of burden for the refinancing loan application/promissory note form per year is as follows:

Type of respondent | Number of respondents | Responses per respondent | Total number of responses | Burden per responses (minutes) | Total burden hours
Applicants | 1,850 | 1 | 1,850 | 12 | 370
Lenders | 9 | 206 | 1,854 | 30 | 927
Total | 1,859 |  | 3,704 |  | 1,297

Send comments to Susan G. Queen, Ph.D., HRSA Reports Clearance Officer, Room 14-33, Parklawn Building, 5600 Fishers Lane, Rockville, MD 20857. Written comments should be received within 60 days of this notice.

Dated: May 25, 2001.
Jane M. Harrison,
Director, Division, of Policy Review and Coordination.

[FR Doc. 01-13850 Filed 6-1-01; 8:45 am]

BILLING CODE 4160-15-P